DEPARTMENT OF ENERGY

Federal Energy Regulatory Commission

[Docket No. RP06-177-004]

Iroquois Gas Transmission System, L.P.; Notice of Compliance Filing

October 18, 2006.

Take notice that on October 12, 2006, Iroquois Gas Transmission System, L.P. (Iroquois) tendered for filing the following revised sheets to its FERC Gas Tariff, First Revised Volume No. 1, to be effective on October 17, 2006:

Third Revised Sheet No. 49A.

Fifth Revised Sheet No. 59A.

Fourth Revised Sheet No. 80.

In a July 10 submittal in Docket No. RP06-395 designed to clarify the meaning of certain terms relating to PAL Service, Iroquois stated that it would refile these three tariff sheets in Docket No. RP06-177 to reflect the changes for both the HUB Service and the PAL Service. Iroquois has submitted a separate filing of October 12, 2006 in Docket No. RP06-177, notifying the Commission that the HUB Service implementation date is October 17, 2006. Pursuant to the commitment made in its July 10 filing in Docket No. RP06-395, Iroquois is submitting Third Revised Sheet No. 49A, Fifth Revised Sheet No. 59A and Fourth Revised Sheet No. 80 to reflect the changes required in both proceedings that are necessary to implement the HUB Service.

Iroquois states that copies of its filing were served on all jurisdictional customers and interested state regulatory agencies and all parties to the proceeding.

Any person desiring to protest this filing must file in accordance with rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-18100 Filed 10-27-06; 8:45 am]

BILLING CODE 6717-01-P